DEPARTMENT OF ENERGY

Federal Energy Regulatory Commission

[Docket No. RP00-175-000]

Midwestern Gas Transmission Company; Notice of Cashout Report

February 4, 2000.

Take notice that on January 31, 2000, Midwestern Gas Transmission Company (Midwestern) tendered for filing its sixth annual cashout report for the September 1998 through August 1999 period.

Midwestern states that the cashout report reflects a cashout gain during this period of $5,742. Midwestern's cumulative losses from its cashout mechanism are thereby reduced to $191,532. Midwestern states that it will roll forward this loss into its next annual cashout report.

Any person desiring to be heard or to protest said filing should file a motion to intervene or a protest with the Federal Energy Regulatory Commission, 888 First Street, N.E., Washington, D.C. 20426, in accordance with Sections 385.214 or 385.211 of the Commission's Rules and Regulations. All such motions or protests must be filed on or before February 11, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-3047 Filed 2-9-00; 8:45 am]

BILLING CODE 6717-01-M